ENVIRONMENTAL PROTECTION AGENCY

40 CFR Part 300

[EPA-HQ-OLEM-2024-0374, EPA-HQ-OLEM-2024-0375, EPA-HQ-OLEM-2024-0377; FRL-12162-02-OLEM]

National Priorities List

AGENCY: Environmental Protection Agency (EPA).

ACTION: Final rule.

SUMMARY: The Comprehensive Environmental Response, Compensation, and Liability Act of 1980 (“CERCLA” or “the Act”), as amended, requires that the National Oil and Hazardous Substances Pollution Contingency Plan (“NCP”) include a list of national priorities among the known releases or threatened releases of hazardous substances, pollutants or contaminants throughout the United States. The National Priorities List (“NPL”) constitutes this list. The NPL is intended primarily to guide the Environmental Protection Agency (“the EPA” or “the agency”) in determining which sites warrant further investigation. These further investigations will allow the EPA to assess the nature and extent of public health and environmental risks associated with the site and to determine what CERCLA-financed remedial action(s), if any, may be appropriate. This rule adds three sites to the General Superfund section of the NPL.

DATES: The rule is effective on August 4, 2025.

ADDRESSES: Contact information for the EPA Headquarters:

• Docket Coordinator, Headquarters; U.S. Environmental Protection Agency; CERCLA Docket Office; 1301 Constitution Avenue NW; William Jefferson Clinton Building West, Room 3334, Washington, DC 20004, telephone number: (202) 566-1744.

FOR FURTHER INFORMATION CONTACT: Vanessa Van Note, U.S. Environmental Protection Agency, Site Assessment and Remedy Decisions Branch, Assessment and Remediation Division, Office of Superfund Remediation and Technology Innovation (Mail Code 5203T), 1200 Pennsylvania Avenue NW, Washington, DC 20460, telephone number: (202) 564-4830, email address: vannote.vanessa@epa.gov.

The contact information for the regional dockets is as follows:

• Mandy Liao, Region 1 (CT, ME, MA, NH, RI, VT), U.S. EPA, Superfund and Emergency Management Division, 5 Post Office Square, Suite 100, Boston, MA 02109-3912; telephone number: (617) 918-1036.

• James Desir, Region 2 (NJ, NY, PR, VI), U.S. EPA, 290 Broadway, New York, NY 10007-1866; telephone number: (212) 637-4342.

• Nancy Shannon, Region 3 (DE, DC, MD, PA, VA, WV), U.S. EPA, 4 Penn Center, 1600 John F. Kennedy Boulevard, Mail code 3SD12, Philadelphia, PA 19103; telephone number: (215) 814-3175.

• Sandra Bramble, Region 4 (AL, FL, GA, KY, MS, NC, SC, TN), U.S. EPA, 61 Forsyth Street SW, Mail code 9T25, Atlanta, GA 30303; telephone number: (404) 562-8926.

• Jessica Wheatley, Region 5 (IL, IN, MI, MN, OH, WI), U.S. EPA Superfund Records Officer, MI-10J, Metcalfe Federal Building, 77 West Jackson Boulevard, Chicago, IL 60604; telephone number: (312) 353-8559

• Steve Cowan, Region 6 (AR, LA, NM, OK, TX), U.S. EPA, 1201 Elm Street, Suite 500, Mail code SEDA, Dallas, TX 75270; telephone number: (214) 665-3149.

• Kumud Pyakuryal, Region 7 (IA, KS, MO, NE), U.S. EPA, 11201 Renner Blvd., Mail code SUPRSTAR, Lenexa, KS 66219; telephone number: (913) 551-7956.

• Ryan Dunham, Region 8 (CO, MT, ND, SD, UT, WY), U.S. EPA, 1595 Wynkoop Street, Mail code 8SEMD-EMB, Denver, CO 80202-1129; telephone number: (303) 312-6627.

• Leslie Ramirez, Region 9 (AZ, CA, HI, NV, AS, GU, MP), U.S. EPA, 75 Hawthorne Street, Mail code SFD-8-4, San Francisco, CA 94105; telephone number: (415) 972-3978.

• Justin Hodgson, Region 10 (AK, ID, OR, WA), U.S. EPA, 1200 Sixth Avenue, Mail code 13-J07, Seattle, WA 98101; telephone number: (206) 553-6516.

SUPPLEMENTARY INFORMATION:

Table of Contents

I. Background

A. What are CERCLA and SARA?

B. What is the NCP?

C. What is the National Priorities List (NPL)?

D. How are sites listed on the NPL?

E. What happens to sites on the NPL?

F. Does the NPL define the boundaries of sites?

G. How are sites removed from the NPL?

H. May the EPA delete portions of sites from the NPL as they are cleaned up?

I. What is the Construction Completion List (CCL)?

J. What is the Sitewide Ready for Anticipated Use measure?

K. What is state/tribal correspondence concerning NPL Listing?

II. Availability of Information to the Public

A. May I review the documents relevant to this final rule?

B. What documents are available for review at the EPA Headquarters docket?

C. What documents are available for review at the EPA regional dockets?

D. How do I access the documents?

E. How may I obtain a current list of NPL sites?

III. Contents of This Final Rule

A. Additions to the NPL

B. What did the EPA do with the public comments it received?

IV. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer and Advancement Act (NTTAA)

J. Congressional Review Act (CRA)

K. Executive Order 14192: Unleashing Prosperity Through Deregulation

I. Background

A. What are CERCLA and SARA?

In 1980, Congress enacted the Comprehensive Environmental Response, Compensation, and Liability Act, 42 U.S.C. 9601-9675 (“CERCLA” or “the Act”), in response to the dangers of uncontrolled releases or threatened releases of hazardous substances, and releases or substantial threats of releases into the environment of any pollutant or contaminant that may present an imminent or substantial danger to the public health or welfare. CERCLA was amended on October 17, 1986, by the Superfund Amendments and Reauthorization Act (“SARA”), Public Law 99-499, 100 Stat. 1613 et seq.

B. What is the NCP?

To implement CERCLA, the EPA promulgated the revised National Oil and Hazardous Substances Pollution Contingency Plan (“NCP”), 40 CFR part 300, on July 16, 1982 (47 FR 31180), pursuant to CERCLA section 105 and Executive Order 12316 (46 FR 42237, August 20, 1981). The NCP sets guidelines and procedures for responding to releases and threatened releases of hazardous substances, or releases or substantial threats of releases into the environment of any pollutant or contaminant that may present an imminent or substantial danger to the public health or welfare. The EPA has revised the NCP on several occasions. The most recent comprehensive revision was on March 8, 1990 (55 FR 8666).

As required under section 105(a)(8)(A) of CERCLA, the NCP also includes “criteria for determining priorities among releases or threatened releases throughout the United States for the purpose of taking remedial action and, to the extent practicable, taking into account the potential urgency of such action, for the purpose of taking removal action.” “Removal” actions are defined broadly and include a wide range of actions taken to study, clean up, prevent or otherwise address releases and threatened releases of hazardous substances, pollutants or contaminants (42 U.S.C. 9601(23)).

C. What is the National Priorities List (NPL)?

The NPL is a list of national priorities among the known or threatened releases of hazardous substances, pollutants or contaminants throughout the United States. The list, which is appendix B of the NCP (40 CFR part 300), was required under section 105(a)(8)(B) of CERCLA, as amended. Section 105(a)(8)(B) defines the NPL as a list of “releases” and the highest priority “facilities” and requires that the NPL be revised at least annually. The NPL is intended primarily to guide the EPA in determining which sites warrant further investigation to assess the nature and extent of public health and environmental risks associated with a release of hazardous substances, pollutants or contaminants. Of note, listing a site on the NPL does not assign liability to any party or to the owner of any specific property. Also, placing a site on the NPL does not mean that any remedial or removal action necessarily need be taken.

For purposes of listing, the NPL includes two sections, one of sites that are generally evaluated and cleaned up by the EPA (the “General Superfund section”) and one of sites that are owned or operated by other Federal agencies (the “Federal Facilities section”). With respect to sites in the Federal Facilities section, these sites are generally being addressed by other federal agencies. Under Executive Order 12580 (52 FR 2923, January 29, 1987) and CERCLA section 120, each Federal agency is responsible for carrying out most response actions at facilities under its own jurisdiction, custody or control, although the EPA is responsible for preparing a Hazard Ranking System (“HRS”) score and determining whether the facility is placed on the NPL.

D. How are sites listed on the NPL?

There are three mechanisms for placing sites on the NPL for possible remedial action (see 40 CFR 300.425(c) of the NCP): (1) A site may be included on the NPL if it scores sufficiently high on the HRS, which the EPA promulgated as appendix A of the NCP (40 CFR part 300). The HRS serves as a screening tool to evaluate the relative potential of uncontrolled hazardous substances, pollutants or contaminants to pose a threat to human health or the environment. On December 14, 1990 (55 FR 51532), the EPA promulgated revisions to the HRS partly in response to CERCLA section 105(c), added by SARA. On January 9, 2017 (82 FR 2760), a subsurface intrusion component was added to the HRS to enable the EPA to consider human exposure to hazardous substances or pollutants and contaminants that enter regularly occupied structures through subsurface intrusion when evaluating sites for the NPL. The current HRS evaluates four pathways: ground water, surface water, soil exposure and subsurface intrusion, and air. As a matter of agency policy, those sites that score 28.50 or greater on the HRS are eligible for the NPL. (2) Each state may designate a single site as its top priority to be listed on the NPL, without any HRS score. This provision of CERCLA requires that, to the extent practicable, the NPL include one facility designated by each state as the greatest danger to public health, welfare or the environment among known facilities in the state. This mechanism for listing is set out in the NCP at 40 CFR 300.425(c)(2). (3) The third mechanism for listing, included in the NCP at 40 CFR 300.425(c)(3), allows certain sites to be listed without any HRS score, if all of the following conditions are met:

• The Agency for Toxic Substances and Disease Registry (ATSDR) of the U.S. Public Health Service has issued a health advisory that recommends dissociation of individuals from the release.

• The EPA determines that the release poses a significant threat to public health.

• The EPA anticipates that it will be more cost-effective to use its remedial authority than to use its removal authority to respond to the release.

The EPA promulgated an original NPL of 406 sites on September 8, 1983 (48 FR 40658) and generally has updated it at least annually.

E. What happens to sites on the NPL?

A site may undergo remedial action financed by the Trust Fund established under CERCLA (commonly referred to as the “Superfund”) only after it is placed on the NPL, as provided in the NCP at 40 CFR 300.425(b)(1). (“Remedial actions” are those “consistent with a permanent remedy, taken instead of or in addition to removal actions” (40 CFR 300.5).) However, under 40 CFR 300.425(b)(2), placing a site on the NPL “does not imply that monies will be expended.” The EPA may pursue other appropriate authorities to respond to the releases, including enforcement action under CERCLA and other laws.

F. Does the NPL define the boundaries of sites?

The NPL does not describe releases in precise geographical terms; it would be neither feasible nor consistent with the limited purpose of the NPL (to identify releases that are priorities for further evaluation), for it to do so. Indeed, the precise nature and extent of the site are typically not known at the time of listing.

Although a CERCLA “facility” is broadly defined to include any area where a hazardous substance has “come to be located” (CERCLA section 101(9)), the listing process itself is not intended to define or reflect the boundaries of such facilities or releases. Of course, HRS data (if the HRS is used to list a site) upon which the NPL placement was based will, to some extent, describe the release(s) at issue. That is, the NPL site would include all releases evaluated as part of that HRS analysis.

When a site is listed, the approach generally used to describe the relevant release(s) is to delineate a geographical area (usually the area within an installation or plant boundaries) and identify the site by reference to that area. However, the NPL site is not necessarily coextensive with the boundaries of the installation or plant, and the boundaries of the installation or plant are not necessarily the “boundaries” of the site. Rather, the site consists of all contaminated areas within the area used to identify the site, as well as any other location where that contamination has come to be located, or from where that contamination came.

In other words, while geographic terms are often used to designate the site (e.g., the “Jones Co. Plant site”) in terms of the property owned by a particular party, the site, properly understood, is not limited to that property (e.g., it may extend beyond the property due to contaminant migration), and conversely may not occupy the full extent of the property (e.g., where there are uncontaminated parts of the identified property, they may not be, strictly speaking, part of the “site”). The “site” is thus neither equal to, nor confined by, the boundaries of any specific property that may give the site its name, and the name itself should not be read to imply that this site is coextensive with the entire area within the property boundary of the installation or plant. In addition, the site name is merely used to help identify the geographic location of the contamination; and is not meant to constitute any determination of liability at a site. For example, the name “Jones Co. plant site,” does not imply that the Jones Company is responsible for the contamination located on the plant site.

EPA regulations provide that the remedial investigation (“RI”) “is a process undertaken . . . to determine the nature and extent of the problem presented by the release” as more information is developed on site contamination, and which is generally performed in an interactive fashion with the feasibility study (“FS”) (40 CFR 300.5). During the RI/FS process, the release may be found to be larger or smaller than was originally thought, as more is learned about the source(s) and the migration of the contamination. However, the HRS inquiry focuses on an evaluation of the threat posed and therefore the boundaries of the release need not be exactly defined. Moreover, it generally is impossible to discover the full extent of where the contamination “has come to be located” before all necessary studies and remedial work are completed at a site. Indeed, the known boundaries of the contamination can be expected to change over time. Thus, in most cases, it may be impossible to describe the boundaries of a release with absolute certainty.

Further, as noted previously, NPL listing does not assign liability to any party or to the owner of any specific property. Thus, if a party does not believe it is liable for releases on discrete parcels of property, it can submit supporting information to the agency at any time after it receives notice it is a potentially responsible party.

For these reasons, the NPL need not be amended as further research reveals more information about the location of the contamination or release.

G. How are sites removed from the NPL?

The EPA may delete sites from the NPL where no further response is appropriate under Superfund, as explained in the NCP at 40 CFR 300.425(e). This section also provides that the EPA shall consult with states on proposed deletions and shall consider whether any of the following criteria have been met:

(i) Responsible parties or other persons have implemented all appropriate response actions required;

(ii) All appropriate Superfund-financed response has been implemented, and no further response action is required; or

(iii) The remedial investigation has shown the release poses no significant threat to public health or the environment and taking of remedial measures is not appropriate.

H. May the EPA delete portions of sites from the NPL as they are cleaned up?

In November 1995, the EPA initiated a policy to delete portions of NPL sites where cleanup is complete (60 FR 55465, November 1, 1995). Total site cleanup may take many years, while portions of the site may have been cleaned up and made available for productive use.

I. What is the Construction Completion List (CCL)?

The EPA also has developed an NPL construction completion list (“CCL”) to simplify its system of categorizing sites and to better communicate the successful completion of cleanup activities (58 FR 12142, March 2, 1993). Inclusion of a site on the CCL has no legal significance.

Sites qualify for the CCL when: (1) any necessary physical construction is complete, whether or not final cleanup levels or other requirements have been achieved; (2) the EPA has determined that the response action should be limited to measures that do not involve construction (e.g., institutional controls); or (3) the site qualifies for deletion from the NPL. For more information on the CCL, see the EPA's internet site at https://www.epa.gov/superfund/construction-completions-national-priorities-list-npl-sites-number.

J. What is the Sitewide Ready for Anticipated Use measure?

The Sitewide Ready for Anticipated Use measure represents important Superfund accomplishments, and the measure reflects the high priority the EPA places on considering anticipated future land use as part of the remedy selection process. See Guidance for Implementing the Sitewide Ready-for-Reuse Measure, May 24, 2006, OSWER 9365.0-36. This measure applies to final and deleted sites where construction is complete, all cleanup goals have been achieved, and all institutional or other controls are in place. The EPA has been successful on many occasions in carrying out remedial actions that ensure protectiveness of human health and the environment for current and future land uses, in a manner that allows contaminated properties to be restored to environmental and economic vitality. For further information, please go to https://www.epa.gov/superfund/about-superfund-cleanup-process#reuse.

K. What is state/tribal correspondence concerning NPL Listing?

In order to maintain close coordination with states and tribes in the NPL listing decision process, the EPA's policy is to determine the position of the states and tribes regarding sites that the EPA is considering for listing. This consultation process is outlined in two memoranda that can be found at the following website: https://www.epa.gov/superfund/statetribal-correspondence-concerning-npl-site-listing.

The EPA has improved the transparency of the process by which state and tribal input is solicited. The EPA is using the Web and where appropriate more structured state and tribal correspondence that: (1) Explains the concerns at the site and the EPA's rationale for proceeding; (2) requests an explanation of how the state intends to address the site if placement on the NPL is not favored; and (3) emphasizes the transparent nature of the process by informing states that information on their responses will be publicly available.

A model letter and correspondence between the EPA and states and tribes where applicable, is available on the EPA's website at https://www.epa.gov/superfund/statetribal-correspondence-concerning-npl-site-listing.

II. Availability of Information to the Public

A. May I review the documents relevant to this final rule?

Yes, documents relating to the evaluation and scoring of the site in this final rule are contained in dockets located both at the EPA headquarters and in the EPA regional offices.

An electronic version of the public docket is available through https://www.regulations.gov (see table below for Docket ID Nos.). Although not all docket materials may be available electronically, you may still access any of the publicly available docket materials through the docket facilities identified in section II.D.

Docket Identification Numbers by Site
Site name | City/county, state | Docket ID No.
Historic Potteries | Trenton, NJ | EPA-HQ-OLEM-2024-0374
Carlisle Village Cleaners | Albuquerque, NM | EPA-HQ-OLEM-2024-0375
J.H. Baxter | Eugene, OR | EPA-HQ-OLEM-2024-0377

B. What documents are available for review at the EPA Headquarters docket?

The headquarters docket for this rule contains the HRS score sheets, the documentation record describing the information used to compute the score, a list of documents referenced in the documentation record for each site and any other information used to support the NPL listing of the site. These documents are also available online at https://www.regulations.gov.

C. What documents are available for review at the EPA regional dockets?

The EPA regional dockets contain all the information in the headquarters docket, plus the actual reference documents containing the data principally relied upon by the EPA in calculating or evaluating the HRS score. These reference documents are available only in the regional dockets.

D. How do I access the documents?

You may view the documents that support this rule via the internet at https://www.regulations.gov or by contacting the EPA HQ docket or appropriate regional docket. The hours of operation for the headquarters docket are from 8:30 a.m. to 4:30 p.m., Monday through Friday, excluding federal holidays. Please contact the individual regional dockets for hours. For addresses for the headquarters and regional dockets, see ADDRESSES section in the beginning portion of this preamble.

E. How may I obtain a current list of NPL sites?

You may obtain a current list of NPL sites online at https://www.epa.gov/superfund/national-priorities-list-npl-sites-site-name.

III. Contents of This Final Rule

A. Additions to the NPL

This final rule adds the following three sites to the General Superfund section of the NPL. These sites are being added to the NPL based on HRS scores of 28.50 or above.

General Superfund Section
State | Site name | City/county
NJ | Historic Potteries | Trenton.
NM | Carlisle Village Cleaners | Albuquerque.
OR | J.H. Baxter | Eugene.

B. What did the EPA do with the public comments it received?

The EPA is adding three sites to the National Priorities List (NPL) in this final rule. The Historic Potteries site in Trenton, NJ, the Carlisle Village Cleaners Site in Albuquerque, NM, and the J.H. Baxter site in Eugene, OR were proposed for addition to the NPL on September 5, 2024 (89 FR 72356). The public comment period on the proposed rule to add these sites to the NPL closed on November 4, 2024.

The EPA reviewed and considered all public comments received on the sites in this rule and responded to all comments in Docket ID No. EPA-HQ-OLEM-2024-0374 (Historic Potteries, NJ), EPA-HQ-OLEM-2024-0375 (Carlisle Village Cleaners, NM), and EPA-HQ-OLEM-2024-0377 (J.H. Baxter, OR). In this Unit is a summary of significant comments received on the Historic Potteries, Carlisle Village Cleaners, and J.H. Baxter sites and EPA responses.

Historic Potteries

For the Historic Potteries site, the EPA received 17 comments that either supported or did not oppose the addition of the site to the NPL. One commenter expressed support for all four sites in the proposal, and seven commenters provided support with requests. Lead-Free NJ and three private citizens supported listing and provided the following requests: prioritization of funding and proposal adoption, addressing community concerns about blood lead level testing, addressing indoor and outdoor lead paint concerns, and incorporating local hiring in the removal activities. Unleaded Kids requested the EPA work with the community, test for contaminants that were used by historic potteries, expand the site as data permit, ensure transparency about contractors completing cleanup, provide lead-based paint abatement to residents, and collaborate with state and local agencies. A private citizen requested that additional information about soil lead contamination and its impacts to children be considered. An additional private citizen requested that lead testing be conducted in homes. A private citizen requested the implementation of the EPA's Technical Assistance Services for Communities (TASC) Program or a Technical Assistance Grant (TAG) Program, as well as a Superfund Community Advisory Group (CAG).

In response to the overwhelming support for listing this site, the EPA has added the Historic Potteries site to the NPL. Listing makes a site eligible for remedial action funding under CERCLA, and the EPA will examine the site to determine what response, if any, is appropriate to ensure the protection of human health and the environment. EPA emphasizes that while an initial focus has been on the residential, public school, and public park properties in or around the East Trenton and Top Road neighborhood, the full extent of the site will be determined in a separate stage of the CERCLA process following additional investigation. EPA may identify additional properties or neighborhoods for which remediation for risks from lead in soil is necessary. Sources of funding are also determined at a separate stage of the Superfund process after listing. Regarding community involvement, the EPA ensures community relations is a continuing activity designed to meet the specific needs of the community. Anyone wanting information on a specific site should contact the Community Relations staff in the appropriate EPA Regional Office. Additional information on community involvement can also be found on the EPA's website, and site-specific information can be accessed on the site progress profile (https://cumulis.epa.gov/supercpad/cursites/csitinfo.cfm?id=0203535). Regarding comments discussing the TAGs program, the TASC program, or CAGs, TAGs are grants provided by the EPA to qualified community groups to assist communities with NPL sites. The EPA provides information specific to TAGs online at the following location: https://www.epa.gov/superfund/technical-assistance-grant-tag-program. The TASC program provides independent assistance through an EPA contract to help communities understand EPA actions, and CAGs are groups intended to represent the views and perspectives of community members regarding issues related to a Superfund site. Information regarding the TASC program and CAGs are available online at the following locations: https://www.epa.gov/superfund/technical-assistance-services-communities-tasc-program and https://www.epa.gov/superfund/community-advisory-group-cag-resources.

Carlisle Village Cleaners

The EPA received 41 comments that either supported the listing of the Carlisle Village Cleaners site on the NPL or did not oppose the addition of the site to the NPL and eight comments that opposed listing. Two comments received provided support for all four sites included in the proposal. One commenter not opposing the listing of the site stated that there should be more facts, statistics and information on how the government is working to cleanup the contamination. Another commenter that did not oppose listing requested testing of their home. One commenter expressed concern that the ongoing cleanup efforts at the site are not sufficient to address the complexity of the contamination present. Several commenters mentioned adverse health effects possibly associated with the Site and expressed concerns with families and children living in impacted areas. Additional requests submitted by commenters in support of listing included requests for additional information about when remediation will be completed.

In opposition to the proposed addition of the site to the NPL, five commenters opposed listing the site due to what they characterized as the limited number of individuals impacted by the site. One commenter also asserted that NPL sites can be perceived negatively. Two other commenters stated that additional testing should occur prior to adding the site to the NPL, and one commenter expressed general opposition to the proposal to add the site to the NPL.

In response to all comments received, the EPA has added the Carlisle Village Cleaners site to the NPL to further investigate and characterize the extent of contamination. By listing this site, the EPA is identifying Carlisle Village Cleaners as a site of national priority among known releases or threatened releases of hazardous substances, pollutants, or contaminants throughout the United States and its territories. Listing makes a site eligible for remedial action funding under CERCLA, and the EPA will examine the site to determine what response, if any, is appropriate. Decisions regarding whether remedial actions will occur and which approach to remediation should be employed, if any, will occur later in the Superfund process. The full process is outlined here: https://www.epa.gov/superfund/superfund-cleanup-process.

Regarding the comment to provide more facts and statistics on the site to the public. EPA has included all data, referencing all available documentation, needed to meet all CERCLA and HRS requirements for placing the site on the NPL into the Hazard Ranking System documentation record available at https://www.regulations.gov. This information is sufficient to confirm that there is contamination present that requires cleanup under CERCLA authority. With the site being placed on the NPL, EPA will move forward with conducting a larger investigation to establish the risk the contamination may present to the public and surrounding environment. All results from these investigations will be made publicly available and the public will be asked to provide input on any future decisions to conduct cleanup activity at the site. Additional information regarding the Site's progress is made available to the public on the Site progress profile available here: https://cumulis.epa.gov/supercpad/cursites/csitinfo.cfm?id=0622185.

Regarding questions of the level of risk posed by the site and the number of people evaluated as targets, the site and associated population evaluated in the HRS scoring achieved an NPL-eligible HRS site score above the minimum of 28.50 required for listing. The HRS is not a site-specific or human health risk assessment. The HRS is a numerically based screening tool that the EPA uses to assess the relative degree of risk to human health and the environment posed by a site compared to other sites subject to review based on a screening-level knowledge of site conditions. The HRS score is one method used to determine whether a site is eligible for placement on the NPL. An NPL-eligible HRS site score at or above 28.50 establishes that the site poses a sufficient relative risk to human health or the environment to warrant inclusion on the NPL. For HRS scoring purposes, the population associated with the Carlisle Village Cleaners site and the site conditions are sufficient to achieve an NPL-eligible HRS site score and warrant inclusion on the NPL. A site-specific risk assessment will be performed at later stage of the Superfund cleanup process, as appropriate. The full process is outlined here: https://www.epa.gov/superfund/superfund-cleanup-process.

Regarding the ongoing efforts to reduce the contamination through the introduction of air mitigation systems referred to as “air filters,” more data are needed to determine which mitigation systems are appropriate to address the known and unknown human exposure issues on site. These systems are meant as a human health protection measure but do not treat or cleanup the contamination that is present in the soil at the site.

Regarding possible stigma associated with an NPL site, economic factors and stigma are generally not considered in the assessment of whether a site belongs on the NPL. However, the EPA notes that costs and benefits can both be associated with including a site on the NPL. Inclusion of a site on the NPL does not impact the confirmed presence of hazardous waste at a site location. Among the benefits of including sites on the NPL are increased health and environmental protections as a result of increased public awareness of potential hazards and the distribution of appropriate resources to addressing the contamination at a site, if warranted. Should CERCLA remedies be implemented, there will be lower human exposure to high-risk chemicals, and access to higher quality surface water, ground water, soil, and air. Therefore, it is possible that any perceived or actual negative fluctuations in property values that may result from contamination may also be countered by positive fluctuations when a CERCLA investigation and any necessary cleanup are completed. For further questions on how a Superfund site might affect properties within the impacted community, see this fact sheet: https://semspub.epa.gov/work/05/927384.pdf.

J. H. Baxter

The EPA received 18 comments that either supported or did not oppose the proposed placement of the J. H. Baxter site on the NPL. The Confederated Tribes of Grand Ronde and the Confederated Tribes of Siletz Indians provided support for listing as it would allow for funding and other resources to be made available for the site. One private citizen expressed support for listing due to the personal emotional, financial, and environmental costs associated with the Site's presence in the commenter's neighborhood. Another private citizen that did not oppose listing inquired about where contaminated material is ultimately transported during remediation. Beyond Toxics and private citizens described what they characterized as high rates of cancer among people in the vicinity of the Site.

In response, the EPA has added the J. H. Baxter site to the NPL. Listing makes a site eligible for remedial action funding under CERCLA, and the EPA will examine the site to determine what response, if any, is appropriate. Decisions regarding whether remedial actions will occur and which approach to remediation should be employed, if any, occur in the remedial stage of the Superfund process. The full process is outlined here: https://www.epa.gov/superfund/superfund-cleanup-process. Regarding risk posed by the site, the HRS is not a site-specific risk assessment but is a numerically based screening tool that the EPA uses to assess the relative degree of risk to human health and the environment posed by a site compared to other sites subject to review based on a screening-level knowledge of site conditions. A site-specific risk assessment will be performed at later stage of the listing process.

IV. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA. This rule does not contain any information collection requirements that require approval of the OMB.

C. Regulatory Flexibility Act (RFA)

I certify that this action will not have a significant economic impact on a substantial number of small entities under the RFA. This action will not impose any requirements on small entities. This rule listing sites on the NPL does not impose any obligations on any group, including small entities. This rule also does not establish standards or requirements that any small entity must meet and imposes no direct costs on any small entity. Whether an entity, small or otherwise, is liable for response costs for a release of hazardous substances depends on whether that entity is liable under CERCLA 107(a). Any such liability exists regardless of whether the site is listed on the NPL through this rulemaking.

D. Unfunded Mandates Reform Act (UMRA)

This action does not contain any unfunded mandate as described in UMRA, 2 U.S.C. 1531-1538, and does not significantly or uniquely affect small governments. This action imposes no enforceable duty on any state, local or tribal governments or the private sector. Listing a site on the NPL does not itself impose any costs. Listing does not mean that the EPA necessarily will undertake remedial action. Nor does listing require any action by a private party, state, local or tribal governments or determine liability for response costs. Costs that arise out of site responses result from future site-specific decisions regarding what actions to take, not directly from the act of placing a site on the NPL.

E. Executive Order 13132: Federalism

This final rule does not have federalism implications. It will not have substantial direct effects on the states, on the relationship between the national government and the states, or on the distribution of power and responsibilities among the various levels of government.

F. Executive Order 13175: Consultation and Coordination With Indian Tribal Governments

This action does not have tribal implications as specified in Executive Order 13175. Listing a site on the NPL does not impose any costs on a tribe or require a tribe to take remedial action. Thus, Executive Order 13175 does not apply to this action.

G. Executive Order 13045: Protection of Children From Environmental Health and Safety Risks

The EPA interprets Executive Order 13045 as applying only to those regulatory actions that concern environmental health or safety risks that the EPA has reason to believe may disproportionately affect children, per the definition of “covered regulatory action” in section 2-202 of the Executive Order. This action is not subject to Executive Order 13045 because this action itself is procedural in nature (adds sites to a list) and does not, in and of itself, provide protection from environmental health and safety risks. Separate future regulatory actions are required for mitigation of environmental health and safety risks.

H. Executive Order 13211: Actions That Significantly Affect Energy Supply, Distribution, or Use

This action is not subject to Executive Order 13211, because it is not a significant regulatory action under Executive Order 12866.

I. National Technology Transfer and Advancement Act (NTTAA)

This rulemaking does not involve technical standards.

J. Congressional Review Act (CRA)

This action is subject to the CRA, and the EPA will submit a rule report to each House of the Congress and to the Comptroller General of the United States. This action is not a “major rule” as defined by 5 U.S.C. 804(2).

Provisions of the CRA or section 305 of CERCLA may alter the effective date of this regulation. Under 5 U.S.C. 801(b)(1), a rule shall not take effect, or continue in effect, if Congress enacts (and the President signs) a joint resolution of disapproval, described under section 802. Another statutory provision that may affect this rule is CERCLA section 305, which provides for a legislative veto of regulations promulgated under CERCLA. Although INS v. Chadha, 462 U.S. 919,103 S. Ct. 2764 (1983), and Bd. of Regents of the University of Washington v. EPA, 86 F.3d 1214,1222 (D.C. Cir. 1996), cast the validity of the legislative veto into question, the EPA has transmitted a copy of this regulation to the Secretary of the Senate and the Clerk of the House of Representatives.

If action by Congress under either the CRA or CERCLA section 305 calls the effective date of this regulation into question, the EPA will publish a document of clarification in the Federal Register.

K. Executive Order 14192: Unleashing Prosperity Through Deregulation

This rulemaking is not subject to Executive Order 14192 (90 FR 9065, February 6, 2025) because it is not a significant regulatory action subject to Office of Management and Budget review. This rulemaking is published in accordance with direction provided in the Comprehensive Environmental Response, Compensation, and Liability Act, enacted in 1980 to address the cleanup of the Nation's most highly contaminated sites.

List of Subjects in 40 CFR Part 300

Environmental protection, Air pollution control, Chemicals, Hazardous substances, Hazardous waste, Intergovernmental relations, Natural resources, Oil pollution, Penalties, Reporting and recordkeeping requirements, Superfund, Water pollution control, Water supply.

Steven Cook,
Principal Deputy Assistant Administrator, Office of Land and Emergency Management.

For the reasons set out in the preamble, title 40, chapter I, part 300, of the Code of Federal Regulations is amended as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Amend table 1 of appendix B to part 300 by adding the entries “NJ, Historic Potteries”, “NM, Carlisle Village Cleaners”, and “OR, J. H. Baxter” in alphabetical order to read as follows:

Appendix B to Part 300—National Priorities List

Table 1—General Superfund Section
State | Site name | City/county | Notes ᵃ
* * * * * * *
NJ | Historic Potteries | Trenton
* * * * * * *
NM | Carlisle Village Cleaners | Albuquerque
* * * * * * *
OR | J. H. Baxter | Eugene
* * * * * * *
ᵃ A = Based on issuance of health advisory by Agency for Toxic Substances and Disease Registry (if scored, HRS score need not be greater than or equal to 28.50).

* * * * *

[FR Doc. 2025-12499 Filed 7-2-25; 8:45 am]

BILLING CODE 6560-50-P